DEPARTMENT OF JUSTICE

Antitrust Division

Notice Pursuant to the National Cooperative Research and Production Act of 1993—Southwest Research Institute: Clean Diesel IV

Notice is hereby given that, on April 6, 2004, pursuant to section 6(a) of the National Cooperative Research and Production Act of 1993, 15 U.S.C. 4301 et seq. (“the Act”), Southwest Research Institute (“SwRI”): Clean Diesel IV has filed written notifications simultaneously with the Attorney General and the Federal Trade Commission disclosing (1) The identities of the parties and (2) the nature and objectives of the venture. The notifications were filed for the purpose of invoking the Act's provisions limiting the recovery of antitrust plaintiffs to actual damages under specified circumstances. Pursuant to section 6(b) of the Act, the identities of the parties are Aramco Services Company, Houston, TX; BorgWarner, Inc., Auburn Hills, MI; BP America Inc., La Palma, CA; Caterpillar, Inc., Mossville, IL; Corning Incorporated, Corning, NY; DAF Trucks, N.V., Eindhoven, NETHERLANDS; Delphi Automotive Systems, Troy, MI; Detroit Diesel Corporation, Detroit, MI; Eaton Corporation, Southfield, MI; Emitec, Inc., Auburn Hills, MI; ExxonMobil Corporation, Paulsboro, NJ; Ford Motor Company, Dearborn, MI; Hilite International, Inc., Cleveland, OH; Honeywell Turbocharging Systems, Torrance, CA; Hyundai Motor Company and Kia Motors Corporation, Gyunggi-Do, REPUBLIC OF KOREA; International Truck and Engine Company, Melrose Park, IL; Iveco Motorenforschung AG, Arbon, SWITZERLAND; Jacobs Vehicle Systems, Inc., Bloomfield, CT; John Deere Product Engineering Center, Deere and Company, Waterloo, IA; Nissan Technical Center North America, Inc., Farmington Hills, MI; Norstar Founders Group, Ltd., Causeway Bay, Hong Kong, HONG KONG-CHINA; Shell Global Solutions, Houston, TX; Senior Automotive, Bartlett, IL; USUI Kokusai Sangyo Kaisha, Ltd., Shizuoka-ken, JAPAN; and Volvo Powertrain, Cedex, FRANCE.

The purpose and nature of the venture is to achieve NOX and HC levels of 0.2g/hp-hr, PM level of 0.01 g/hp-hr and NMHC of 0.14 g/hp-hr over the U.S. transient heavy-duty test cycle and develop pre-competitive diesel engine technology through the investigation of the following technologies: fuel economy, CO2, specific engine power comparable to the best 2003 engines, diesel fuel with specifications representative of diesel fuel available in 2007, European and Japanese test cycles, off-highway and light-duty test cycles and, as appropriate for the light-duty engine, the program goal will be the equivalent of the US TIER-II standard.

Membership in this research group remains open, and the participants intend to file additional written notification disclosing all changes in membership or planned activities.

Dorothy B. Fountain,
Deputy Director of Operations, Antitrust Division.

[FR Doc. 04-10490 Filed 5-7-04; 8:45 am]

BILLING CODE 4410-11-M